ENVIRONMENTAL PROTECTION AGENCY

[ER-FRL-6682-3]

Environmental Impact Statements; Notice of Availability

Responsible Agency: Office of Federal Activities, General Information (202) 564-7167 or http://www.epa.gov/compliance/nepa/.

Weekly receipt of Environmental Impact Statements Filed 12/11/2006 Through 12/15/2006 Pursuant to 40 CFR 1506.9.

EIS No. 20060513, Final EIS, AFS, CO, Arapahoe Basin 2006 Improvement Plan, Enhancing the Recreational Experience Addressing Lifts, Parking, and Terrain Network, Montezuma Bowl, Implementation, U.S. Army COE 404 Permit, White River National Forest, Summit County, CO, Wait Period Ends: 01/22/2007, Contact: Peech Keller 970-262-3495.

EIS No. 20060514, Draft EIS, NPS, CA, Big Lagoon Wetland and Creek Restoration Project, To Restore a Functional, Self-Sustaining Ecosystem, including Wetland, Riparian, and Aquatic Components, Golden Gate National Area, Muir Beach, Marin County, CA, Comment Period Ends: 03/07/2007, Contact: Steve Ortega 415-561-4841.

EIS No. 20060515, Final EIS, FHW, NY, NY-17 Parksville/SH-5223, Liberty-County Line, Part 1 Construction and Reconstruction to Interstate Standards, Funding and U.S. Army COE Permit Issuance, Town of Liberty, Sullivan County, NY, Wait Period Ends: 01/22/2007, Contact: Robert E. Arnold 518-472-3616.

EIS No. 20060516, Final EIS, AFS, UT, Reissuance of 10-Year Term Grazing Permits to Continue Authorize Grazing on Eight Cattle Allotments, Permit Reissuing, Beaver Mountain Tushar Range, Millard, Piute, Garfield, Beaver and Iron Counties, UT, Wait Period Ends: 01/22/2007, Contact: Dave Grider 435-865-3731.

EIS No. 20060517, Final EIS, UAF, HI, Hickam Air Force Base and Bellows Air Force Station, 15th Airlift Wing, Housing Privatization Phase II, To Transfer the Remaining Housing Units, and Associated Infrastructure to Selected Offeror, O'ahu, HI, Wait Period Ends: 01/22/2007, Contact: Ron Lanier 808-449-1584 Ext. 238.

EIS No. 20060518, Draft EIS, FHW, IN, I-69 Evansville to Indianapolis Project, I-69 Tier 2 Section 1: Evansville to Oakland City, from 1-64 to IN-64, U.S. Army COE Section 404 Permit, Gibson and Warrick Counties, IN, Comment Period Ends: 02/20/2007 Contact: Anthony DeSimone 317-226-5307.

EIS No. 20060519, Final EIS, AFS, MT, Gallatin National Forest, Proposed Travel Management Plan, Implementation, Forest Land and Resource Management, Madison, Gallatin, Park, Meagher, Sweetgrass and Carbon Counties, MT, Wait Period Ends: 01/22/2007, Contact: Steve Christiansen 406-587-6750.

EIS No. 20060520, Final EIS, AFS, UT, Fishlake National Forest Off-Highway Vehicle Route Designation Project, Proposes to Designate a System of Motorized Road, Trails, and Areas to Revise and Update the Existing Motorized Travel Plan, UT, Wait Period Ends: 01/22/2007, Contact: Dale Deiter 435-896-1007.

EIS No. 20060521, Draft EIS, NRC, VT, Generic—License Renewal of Nuclear Plants, Supplement 30 to NUREG1437, Regarding Vermont Yankee Nuclear Power Station, Vernon, VT, Comment Period Ends: 03/07/2007, Contact: Richard L. Emch, Jr. 301-415-1590.

EIS No. 20060522, Second Final Supplement, COE, FL, Cape Sable Seaside Sparrow Protection, Interim Operation Plan (IOP), Additional Information Alternative 7, Providing Additional Flood Control Capacity, Implementation, Everglades National Park, Miami-Dade County, FL, Wait Period Ends: 02/05/2007, Contact: Jonathan D. Moulding 904-232-2286.

EIS No. 20060523, Second Draft Supplement, COE, FL, Herbert Hoover Dike Major Rehabilitation Project, To Reconstruct and Rehabilitate Reach 2 and 3, Supplement to the 1999 Draft EIS, Palm Beach, Glades and Martin Counties, FL, Comment Period Ends: 02/05/2007, Contact: Nancy Allen 904-232-3206.

EIS No. 20060524, Final EIS, NRC, VA, Early Site Permit (ESP) at the North Anna Power Station ESP Site (TAC No. MC1128), New and Updated Information, Construction and Operation, NUREG-1811, Louisa County, VA, Wait Period Ends: 01/22/2007, Contact: Jack K. Cushing 301-415-1424.

EIS No. 20060525, Final EIS, COE, MN, East Reserve Project, Construct and Operate an Open Pit Taconite Mine between the Towns of Biwabik and McKinley, St. Louis County, MN, Wait Period Ends: 01/22/2007, Contact: Jon K. Ahlness 651-290-5381.

Amended Notices

EIS No. 20060408, Draft EIS, FAA, NM, Taos Regional Airport (SKX) Airport Layout Plan Improvements, Construction and Operation, Town of Taos, Taos County, NM, Comment Period Ends: 01/10/2007, Contact: Joyce M. Porter 817-222-5644 Revision of FR Notice Published 10/13/2006: Extending Comment Period from 11/27/2006 to 01/10/2007.

EIS No. 20060505, Draft EIS, NOA, 00, South Atlantic Snapper Grouper Fishery, Amendment 14 to Establish Eight Marine Protected Areas in Federal Waters, Implementation, South Atlantic Region, Comment Period Ends: 01/29/2007, Contact: Roy E. Crabtree 727-824-5305. Revision to FR Notice Published 12/15/2006: Correction to Contact Person Name and Telephone Number.

Dated: December 19, 2006.
Robert W. Hargrove,
Director, NEPA Compliance Division, Office of Federal Activities.

[FR Doc. E6-21972 Filed 12-21-06; 8:45 am]

BILLING CODE 6560-50-P